FEDERAL DEPOSIT INSURANCE CORPORATION

Sunshine Act Meeting

Pursuant to the provisions of the “Government in the Sunshine Act” (5 U.S.C. 552b), notice is hereby given that the Federal Deposit Insurance Corporation's Board of Directors met in open session at 10:00 a.m. on Tuesday, December 18, 2018, to consider the following matters:

Summary Agenda Disposition of Minutes of a Board of Directors' Meeting Previously Distributed.

Memorandum and resolution re: Notice of Proposed Rulemaking: Revisions to Prohibitions and Restrictions on Proprietary Trading and Certain Interests in, and Relationships With, Hedge Funds and Private Equity Funds.

Memorandum and resolution re: Final Rule: Regulatory Capital Rule: Implementation and Transition of the Current Expected Credit Losses Methodology for Allowances and Related Adjustments to the Regulatory Capital Rule and Conforming Amendments to Other Regulations.

Memorandum and resolution re: Notice of Proposed Rulemaking to (1) Rescind Regulations Transferred from the Former Office of Thrift Supervision, Part 390, Subpart P—Lending and Investment; (2) Amend Part 365, Subpart A—Real Estate Lending Standards; and (3) Rescind Part 365, Subpart B—Registration of Residential Mortgage Loan Originators.

Memorandum and resolution re: Notice of Proposed Rulemaking to Increase the Major Assets Threshold Under the Depository Institutions Management Interlocks Act.

Memorandum and resolution re: Final Rule: Technical Amendments to Depository Institutions Management Interlocks Act (DIMIA) Regulations.

Memorandum and resolution re: Final Rule: Expanded Exam Cycle for Certain Small Insured Depository Institutions and U.S. Branches and Agencies of Foreign Banks.

Memorandum and resolution re: Final Rule: Limited Exception for a Capped Amount of Reciprocal Deposits from Treatment as Brokered Deposits.

Memorandum and resolution re: Advanced Notice of Proposed Rulemaking Relating to Brokered Deposits.

Memorandum and resolution re: Notice of Proposed Rulemaking: Company-Run Stress Testing Requirements for FDIC-supervised State Nonmember Banks and State Savings Associations.

Memorandum and resolution re: Notice of Proposed Rulemaking: Revisions to the Deposit Insurance Assessment System.

Memorandum and resolution re: Designated Reserve Ratio for 2019.

Summary reports, status reports, and reports of actions taken pursuant to authority delegated by the Board of Directors.

Discussion Agenda

Memorandum and resolution re: Proposed 2019 Operating Budget.

Briefing: Update of Projected Deposit Insurance Fund Losses, Income, and Reserve Ratios for the Restoration Plan.

In calling the meeting, the Board determined, on motion of Director Martin J. Gruenberg, seconded by Director Kathleen L. Kraninger (Director, Consumer Financial Protection Bureau), concurred in by Director Joseph Otting (Comptroller of the Currency), and Chairman Jelena McWilliams, that Corporation business required its consideration of the matters on less than seven days' notice to the public; and that no earlier notice of the meeting than that previously provided on December 12, 2018, was practicable.

The meeting was held in the Board Room located on the sixth floor of the FDIC Building located at 550 17th Street NW, Washington, DC.

Dated: December 18, 2018.
Federal Deposit Insurance Corporation.
Robert E. Feldman,
Executive Secretary.

[FR Doc. 2018-27740 Filed 12-18-18; 4:15 pm]

BILLING CODE P